DEPARTMENT OF THE TREASURY

Open Meeting of the Financial Research Advisory Committee

AGENCY: Office of Financial Research, Department of the Treasury.

ACTION: Notice of Open Meeting.

SUMMARY: The Financial Research Advisory Committee for the Treasury's Office of Financial Research (OFR) is convening for its sixteenth meeting on Thursday, July 16, 2020, via webcast, beginning at 10:00 a.m. Eastern Time. The meeting will be open to the public and advance registration is required.

DATES: The meeting will be held on Thursday, July 16, 2020, beginning at 10:00 a.m. Eastern Time.

ADDRESSES: The meeting will be held via webcast using Zoom. Participants are required to process the meeting registration ahead of time. See below for details:

Register in advance for the meeting using the Zoom attendee registration link: https://ofr-treasury.zoomgov.com/meeting/register/vJItcOurrTkqGaGlqKDqxd2Dj2sSekA4ySoAfter registering, you will receive a confirmation email with a unique link to join the meeting.

REASONABLE ACCOMMODATION: If you require a reasonable accommodation or sign language interpreter, please contact ReasonableAccommodationRequests@treasury.gov. Please submit requests at least five days in advance of the event.

FOR FURTHER INFORMATION CONTACT: Melissa Avstreih, Designated Federal Officer, Office of Financial Research, Department of the Treasury, 1500 Pennsylvania Avenue NW, Washington, DC 20220, (202) 927-8032 (this is not a toll-free number), or OFR_FRAC@ofr.treasury.gov. Persons who have difficulty hearing or speaking may access this number via TTY by calling the toll-free Federal Relay Service at 800-877-8339.

SUPPLEMENTARY INFORMATION: Notice of this meeting is provided in accordance with the Federal Advisory Committee Act, 5 U.S.C. App. 2, 10(a)(2), through implementing regulations at 41 CFR 102-3.150, et seq.

Public Comment: Members of the public wishing to comment on the business of the Financial Research Advisory Committee are invited to submit written statements by any of the following methods:

• Electronic Statements. Email the Committee's Designated Federal Officer at OFR_FRAC@ofr.treasury.gov.

• Paper Statements. Send paper statements in triplicate to the Financial Research Advisory Committee, Attn: Melissa Avstreih, Office of Financial Research, Department of the Treasury, 1500 Pennsylvania Avenue NW, Washington, DC 20220.

The OFR will post statements on the Committee's website, https://www.financialresearch.gov/frac/, including any business or personal information provided, such as names, addresses, email addresses, or telephone numbers. The OFR will also make such statements available for public inspection and copying in the Department of the Treasury's library, Annex Room 1020, 1500 Pennsylvania Avenue NW, Washington, DC 20220 on official business days between the hours of 8:30 a.m. and 5:30 p.m. Eastern Time. You may make an appointment to inspect statements by telephoning (202) 622-0990. All statements, including attachments and other supporting materials, will be part of the public record and subject to public disclosure. You should submit only information that you wish to make available publicly.

Tentative Agenda/Topics for Discussion: The Committee provides an opportunity for researchers, industry leaders, and other qualified individuals to offer their advice and recommendations to the OFR, which, among other things, is responsible for collecting and standardizing data on financial institutions and their activities and for supporting the work of Financial Stability Oversight Council.

This is the sixteenth meeting of the Financial Research Advisory Committee. Topics to be discussed among all members include passive investing, and hedge fund trades and U.S. Treasury market illiquidity. For more information on the OFR and the Committee, please visit the OFR website at http://www.financialresearch.gov.

Dated: June 15, 2020.
Melissa K. Avstreih,
Senior Industry Liaison.

[FR Doc. 2020-13156 Filed 6-17-20; 8:45 am]

BILLING CODE P